ENVIRONMENTAL PROTECTION AGENCY

[EPA-HQ-OA-2022-0050; FRL-10359-01-OA]

White House Environmental Justice Advisory Council; Notification of Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the dates and times described below. The meeting is open to the public. For additional information about registering to attend the meeting or provide public comment, please see “REGISTRATION” under SUPPLEMENTARY INFORMATION. Pre-Registration is required.

DATES: The WHEJAC will convene a hybrid in-person public meeting with a virtual option starting Wednesday, November 30, 2022, at approximately 2:00 p.m. Eastern Time. The WHEJAC meeting continues Thursday, December 1, 2022, at approximately 9:00 a.m. Eastern Time. Meeting discussions will focus on several topics including, but not limited to, workgroup activity, proposed recommendations for the Council on Environmental Quality's (CEQ) consideration, CEQ briefings, new charges, and interaction between the White House Interagency Council on Environmental Justice and WHEJAC. A public comment period relevant to the specific issues will be considered by the WHEJAC at the meeting (see SUPPLEMENTARY INFORMATION). Members of the public who wish to participate during the public comment period must register by 11:59 p.m., Eastern Time, November 23, 2022.

ADDRESSES: The WHEJAC meeting will be held at the Westin Alexandria Old Town, 400 Courthouse Square in Alexandria, Virginia 22314-5700.

FOR FURTHER INFORMATION CONTACT: Victoria Robinson, WHEJAC Designated Federal Officer, U.S. EPA; email: whejac@epa.gov; or by telephone at (202) 564-6349. Additional information about the WHEJAC is available at: https://www.epa.gov/environmentaljustice/white-house-environmental-justice-advisory-council#meetings.

SUPPLEMENTARY INFORMATION: The Charter of the WHEJAC states that the advisory committee will provide independent advice and recommendations to the Chair of the CEQ and to the White House Interagency Council on how to increase the Federal Government's efforts to address current and historic environmental injustice, including recommendations for updating Executive Order 12898.

The WHEJAC will provide advice and recommendations about broad cross-cutting issues related but not limited to issues of environmental justice and pollution reduction, energy, climate change mitigation and resiliency, environmental health, and racial inequity. The WHEJAC's efforts will include a broad range of strategic, scientific, technological, regulatory, community engagement, and economic issues related to environmental justice.

I. Registration

Individual registration is required for the virtual public meeting. No two individuals can share the same registration link. Information on how to register is located at https://www.epa.gov/environmentaljustice/white-house-environmental-justice-advisory-council#meetings. Registration to attend the public meeting is available throughout the duration of the meeting days. The deadline to sign up to speak during the in-person public comment period will close at 11:59 p.m. Eastern Time on November 23, 2022. When registering, please provide your name, organization, city and state, and email address for follow up. Please also indicate whether you are interested in providing an oral public comment during the meeting, or if you will submit written comments at the time of registration.

A. Public Comment

The WHEJAC is interested in receiving public comments on a variety of topics related to environmental justice. Every effort will be made to hear from as many registered oral public commenters during the time specified on the agenda. Individuals or groups making remarks during the oral public comment period will be limited to three (3) minutes. Please be prepared to briefly describe your comments; including your recommendations on what you want the WHEJAC to advise CEQ and the Interagency Council to do. Submitting written comments for the record is strongly encouraged. You may submit your written comments in three different ways; (1) by using the webform at https://www.epa.gov/environmentaljustice/forms/white-house-environmental-justice-advisory-council-whejac-public-comment; (2) by sending comments via email to whejac@epa.gov; and (3) by creating comments in the Docket ID No. EPA-HQ-OA-2022-0050 at http://www.regulations.gov. Written comments can be submitted up to two weeks after the meeting closes on December 14, 2022.

B. Information About Services for Individuals With Disabilities or Requiring English Language Translation Assistance

For information about access or services for individuals requiring assistance, contact Victoria Robinson at (202) 564-6349 or via email at whejac@epa.gov. To request special accommodations for a disability or other assistance, please submit your request at least fourteen (14) working days prior to the meeting, to give EPA sufficient time to process your request. All requests should be sent to the address, email, or phone number listed in the FOR FURTHER INFORMATION CONTACT section.

Matthew Tejada,
Deputy Assistant Administrator for Environmental Justice, Office of Environmental Justice and External Civil Rights.

[FR Doc. 2022-23927 Filed 11-2-22; 8:45 am]

BILLING CODE 6560-50-P